NUCLEAR REGULATORY COMMISSION

[Docket No. 30-35252-EA; ASLBP No. 20-964-02-EA-BD01]

In the Matter of Team Industrial Services, Inc.; Establishment of Atomic Safety and Licensing Board

Pursuant to delegation by the Commission, see 37 FR 28710 (Dec. 29, 1972), and the Commission's regulations, see, e.g., 10 CFR 2.104, 2.105, 2.300, 2.309, 2.313, 2.318, 2.321, notice is hereby given that an Atomic Safety and Licensing Board (Board) is being established to preside over the following proceeding:

TEAM INDUSTRIAL SERVICES, INC.

(Order Imposing Civil Monetary Penalty)

This Board is being established pursuant to a hearing request submitted by Team Industrial Services, Inc. in response to an Order Imposing Civil Monetary Penalty, EA-18-124, dated September 20, 2019 and published in the Federal Register. See 84 FR 58178 (Oct 30, 2019).

The Board is comprised of the following Administrative Judges:

Paul S. Ryerson, Chairman, Atomic Safety and Licensing Board Panel, U.S. Nuclear Regulatory Commission, Washington, DC 20555-0001

William J. Froehlich, Atomic Safety and Licensing Board Panel, U.S. Nuclear Regulatory Commission, Washington, DC 20555-0001

Dr. Gary S. Arnold, Atomic Safety and Licensing Board Panel, U.S. Nuclear Regulatory Commission, Washington, DC 20555-0001

All correspondence, documents, and other materials shall be filed in accordance with the NRC E-Filing rule. See 10 CFR 2.302.

Rockville, Maryland.
Dated: December 23, 2019.
Edward R. Hawkens,
Chief Administrative Judge, Atomic Safety and Licensing Board Panel.

[FR Doc. 2019-28221 Filed 12-30-19; 8:45 am]

BILLING CODE 7590-01-P